DEPARTMENT OF DEFENSE

Department of the Navy

Cancellation of the Notice of Intent To Prepare a Programmatic Environmental Impact Statement for the Proposed Geothermal Development Program, Naval Air Facility El Centro, Imperial County, CA

AGENCY: Department of the Navy, DoD.

ACTION: Notice.

SUMMARY: The Department of the Navy (DoN) announces the cancellation of its Notice of Intent to prepare a Programmatic Environmental Impact Statement (PEIS) for the proposed Geothermal Development Program, Naval Air Facility El Centro, Imperial County, CA, as published in the Federal Register, May 5, 2008 (73 FR 87). It has been determined that preparation of a PEIS is not appropriate at this time when considering the current project scale and stage of geothermal energy development at Superstition Mountain on Naval Air Facility El Centro. The DoN will develop an internal document known as an environmental and operational feasibility study. This internal document will analyze the environmental and operational framework within which a geothermal development may proceed and will provide the DoN with information required to determine the DoN's geothermal energy program needs at Naval Air Facility El Centro. Should geothermal development be indicated as feasible and a project to be developed, the appropriate level of National Environmental Policy Act analysis and process will be performed.

FOR FURTHER INFORMATION CONTACT: Steven Bjornstad, United States Navy Geothermal Program Office (PW-8), Naval Air Weapons Station, 429 East Bowen Road, Mail Stop 4011, China Lake, CA 93555-6108, telephone: 760-939-4048, e-mail: steven.bjornstad@navy.mil.

Dated: June 1, 2011.
D. J. Werner,
Lieutenant Commander, Judge Advocate General's Corps, U.S. Navy, Federal Register Liaison Officer.

[FR Doc. 2011-14066 Filed 6-7-11; 8:45 am]

BILLING CODE 3810-FF-P